INTERNATIONAL TRADE COMMISSION

[Investigation Nos. 751-TA-28-29]

Certain Frozen Warmwater Shrimp and Prawns From India and Thailand

Determinations

On the basis of the record ¹ developed in the subject investigations, the United States International Trade Commission (Commission) determines, pursuant to section 751(b) of the Tariff Act of 1930 (19 U.S.C. 1675d(b)) (the Act), that revocation of the antidumping duty orders covering certain frozen warmwater shrimp and prawns from India and Thailand would be likely to lead to continuation or recurrence of material injury to an industry in the United States. Certain frozen warmwater shrimp and prawns from India and Thailand are provided for in subheadings 0306.13.00 and 1605.20.10 of the Harmonized Tariff Schedule of the United States.

¹ The record is defined in sec. 207.2(f) of the Commission's Rules of Practice and Procedure (19 CFR 207.2(f)).

Background

On December 17, 2004, the Department of Commerce determined that imports of certain frozen and canned warmwater shrimp and prawns from India and Thailand are being sold in the United States at less than fair value (LTFV) within the meaning of section 731 of the Act (19 U.S.C. 1673) (69 FR 76916, 76918, December 23, 2004); and on January 6, 2005 the Commission determined, pursuant to section 735(b)(1) of the Act (19 U.S.C. 1673d(b)(1)), that an industry in the United States was materially injured by reason of imports of such LTFV merchandise. Accordingly, Commerce ordered that antidumping duties be imposed on such imports (70 FR 5143, February 1, 2005).

On January 6, 2005, when the Commission conducted its vote in the original investigations, it stated that it was concerned about the possible impact of the December 26, 2004, tsunami on the shrimp industries of India and Thailand. The tsunami occurred prior to the closing of the record in the original investigations on December 27, 2004. At the time the record closed, however, factual information as to any impact of the tsunami on the ability of producers in India or Thailand to produce and export shrimp was not available. On February 8, 2005, the Commission published a Federal Register notice (70 FR 6728) inviting comments from the public on whether changed circumstances exist sufficient to warrant the institution of changed circumstances reviews of the Commission's affirmative determinations concerning certain frozen warmwater shrimp and prawns from India and Thailand.

The Commission instituted the subject investigations (investigation Nos. 751-TA-28-29), effective May 5, 2005, after having reviewed the comments it received in response to that request, and having determined that it had received information which showed changed circumstances sufficient to warrant instituting review investigations and that there was good cause for instituting such review investigations within two years after publication of the orders. Notice of the scheduling of the Commission's investigations and of a public hearing to be held in connection therewith was given by posting copies of the notice in the Office of the Secretary, U.S. International Trade Commission, Washington, DC, and by publishing the notice in the Federal Register of May 5, 2005 (70 FR 23884). The hearing was held in Washington, DC, on September 14, 2005, and all persons who requested the opportunity were permitted to appear in person or by counsel.

The Commission transmitted its determinations in these investigations to the Secretary of Commerce on November 21, 2005. The views of the Commission are contained in USITC Publication 3813 (November 2005), entitled Certain Frozen Warmwater Shrimp and Prawns from India and Thailand: Investigation Nos. 751-TA-28-29.

Issued: November 21, 2005.
By order of the Commission.
Marilyn R. Abbott,
Secretary to the Commission.

[FR Doc. E5-6593 Filed 11-28-05; 8:45 am]

BILLING CODE 7020-02-P